DEPARTMENT OF HOMELAND SECURITY

U.S. Immigration and Customs Enforcement

[Docket No. ICEB-2024-0010]

RIN 1653-ZA54

Employment Authorization for Lebanese F-1 Nonimmigrant Students Experiencing Severe Economic Hardship as a Direct Result of the Current Crisis in Lebanon

AGENCY: U.S. Immigration and Customs Enforcement; Department of Homeland Security.

ACTION: Notice.

SUMMARY: The Department of Homeland Security (DHS) is suspending certain regulatory requirements for F-1 nonimmigrant students from Lebanon who are experiencing severe economic hardship as a direct result of the current crisis in Lebanon. The Secretary is providing relief to these students who are in lawful F-1 nonimmigrant status, so the students may request employment authorization, work an increased number of hours while school is in session, and reduce their course load while continuing to maintain their F-1 nonimmigrant status.

DATES: This action covers eligible Lebanese F-1 nonimmigrant students beginning on November 27, 2024, and ending on May 27, 2026.

FOR FURTHER INFORMATION CONTACT: Sharon Snyder, Unit Chief, Policy and Response Unit, Student and Exchange Visitor Program, MS 5600, U.S. Immigration and Customs Enforcement, 500 12th Street SW, Washington, DC 20536-5600; email: sevp@ice.dhs.gov, telephone: (703) 603-3400. This is not a toll-free number. Program information can be found at https://www.ice.gov/sevis/.

SUPPLEMENTARY INFORMATION:

What action is DHS taking under this notice?

The Secretary is exercising authority under 8 CFR 214.2(f)(9) to temporarily suspend the applicability of certain requirements governing on-campus and off-campus employment for F-1 nonimmigrant students whose country of citizenship is Lebanon regardless of country of birth (or individuals having no nationality who last habitually resided in Lebanon), who are present in the United States in lawful F-1 nonimmigrant student status on the date of publication of this notice, and who are experiencing severe economic hardship as a direct result of the current crisis in Lebanon. Previously, DHS issued a notice which applied to F-1 nonimmigrant students from Lebanon who met certain criteria, including having been lawfully present in the United States in F-1 nonimmigrant status on July 26, 2024, that was effective through January 25, 2026. See 89 FR 83897 (Oct. 18, 2024). While DHS's prior notice remains effective for eligible F-1 nonimmigrant students, effective with this publication, suspension of the employment limitations is also available through May 27, 2026, for those who are in lawful F-1 nonimmigrant status on the date of publication of this notice. DHS will deem an F-1 nonimmigrant student granted employment authorization through this Notice to be engaged in a “full course of study” for the duration of the employment authorization, if the student satisfies the minimum course load set forth in this notice.¹ See 8 CFR 214.2(f)(6)(i)(F).

¹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 27, 2026, provided the student satisfies the minimum course load requirements in this notice.

Who is covered by this notice?

This notice applies exclusively to F-1 nonimmigrant students who meet all of the following conditions:

(1) Are a citizen of Lebanon regardless of country of birth (or an individual having no nationality who last habitually resided in Lebanon);

(2) Were lawfully present in the United States on November 27, 2024, in F-1 nonimmigrant status under section 101(a)(15)(F)(i) of the Immigration and Nationality Act (INA), 8 U.S.C. 1101(a)(15)(F)(i);

(3) Are enrolled in an academic institution that is Student and Exchange Visitor Program (SEVP)-certified for enrollment for F-1 nonimmigrant students;

(4) Are currently maintaining F-1 nonimmigrant status; and

(5) Are experiencing severe economic hardship as a direct result of the current crisis in Lebanon.

This notice applies to F-1 nonimmigrant students in an approved private school in kindergarten through grade 12, public school grades 9 through 12, and undergraduate and graduate education. An F-1 nonimmigrant student covered by this notice who transfers to another SEVP-certified academic institution remains eligible for the relief provided by means of this notice.

Why is DHS taking this action?

DHS is taking action to provide relief to Lebanese F-1 nonimmigrant students experiencing severe economic hardship due to the current crisis in Lebanon. Based on its review of country conditions in Lebanon and input received from the U.S. Department of State (DOS), DHS is taking action to allow eligible F-1 nonimmigrant students from Lebanon to request employment authorization, work an increased number of hours while school is in session, and reduce their course load while continuing to maintain F-1 nonimmigrant student status.

Lebanon faces multiple and competing security threats, including political instability, civil unrest and violence, spill-over from the Syrian civil war, and increased border tension between Hezbollah ² and Israel.³ Additionally, the deteriorating economic situation has led to alarming levels of poverty, food insecurity, and crumbling infrastructure.⁴

² Hezbollah (also spelled “Hizballah”) was designated as a foreign terrorist organization in 1997. See U.S. Dep't of State, Country Reports on Terrorism 2022, 276, Nov. 30, 2023, available at https://www.state.gov/wp-content/uploads/2023/11/Country_Reports_on_Terrorism_2022-v3.pdf (accessed Nov. 8, 2024).

³ Instability in Lebanon, Global Conflict Tracker, Center for Preventive Action, Council on Foreign Relations, Oct. 28, 2024, available at https://www.cfr.org/global-conflict-tracker/conflict/political-instability-lebanon (last visited Nov. 5, 2024).

⁴ Famine Early Warning System, Escalating conflict leads to rising population in need of food assistance, Sept. 2024, available at https://fews.net/middle-east-and-asia/lebanon/key-message-update/september-2024 (last visited Nov. 5, 2024); Mass displacement in Lebanon war revives spectre of sectarian strife, Reuters, Oct. 15, 2024, available at https://www.reuters.com/world/middle-east/mass-displacement-lebanon-war-revives-spectre-sectarian-strife-2024-10-15 (last visited Nov. 5, 2024).

Security Concerns

Since October 7, 2023, there has been an escalation of hostilities across the Lebanon-Israel border between Israeli forces and Hezbollah.⁵ As of early October 2024, the conflict between Israel and Hezbollah escalated significantly.⁶ Increased Israeli airstrikes in Lebanon, including urban regions in and around Beirut, have resulted in civilian casualties and displacement.⁷ According to Lebanese authorities, more than 2,300 people have been killed since October 2023 and 1.2 million people have been forced to flee their homes.⁸ On September 30, 2024, Israel launched a ground invasion into southern Lebanon days after an Israeli air strike killed Hassan Nasrallah, the leader of Hezbollah.⁹ Rising tensions between Israel and Hezbollah have resulted in the evacuation of both Israeli and Lebanese residents in communities along both sides of the shared border.¹⁰

⁵ Instability in Lebanon, Global Conflict Tracker, Center for Preventive Action, Council on Foreign Relations, Oct. 28, 2024, available at https://www.cfr.org/global-conflict-tracker/conflict/political-instability-lebanon (last visited Nov. 5, 2024).

⁶ ReliefWeb, Statement by the Humanitarian Coordinator for Lebanon, Imran Riza, on the One-Year Mark of Escalations in Lebanon, Oct. 9, 2024, available at https://reliefweb.int/report/lebanon/statement-humanitarian-coordinator-lebanon-imran-riza-one-year-mark-escalations-lebanon-9-october-2024-enar (last visited Nov. 5, 2024).

⁷ Melanie Lidman, Bassam Hatoum, and Bassem Mroue, Israel expands its bombardment in Lebanon as thousands flee widening war, AP, Oct. 5, 2024, available at https://apnews.com/article/mideast-wars-lebanon-hezbollah-hamas-5-october-2024-a8b70daeccc57a86fc6d939c604f2caf (last visited Nov. 5, 2024).

⁸ BBC, Israel-Hezbollah conflict in maps: Where is fighting happening in Lebanon, Oct. 17, 2024, available at https://www.bbc.com/news/articles/c9vp7dg3ml1o (last visited Nov. 5, 2024).

⁹ Id.

¹⁰ NPR, Israel begins ground offensive in Lebanon, Oct. 1, 2024, available at https://www.npr.org/2024/10/01/g-s1-25657/israel-ground-offensive-lebanon (last visited Nov. 5, 2024).

Economic Crisis

The recent intensification of military conflict and population displacement has exacerbated an existing economic crisis in Lebanon. In 2021, the International Monetary Fund (IMF) estimated that Lebanon's economic collapse may be the third worst economic crisis in the world since the mid-nineteenth century.¹¹ Four years after the collapse, in September 2023, the IMF warned that “the small nation is still facing `enormous economic challenges,' with a collapsed banking sector, eroding public services, deteriorating infrastructure, inflation, and worsening poverty.” ¹²

¹¹ The World Bank, Lebanon Economic Monitor, Spring 2021: Lebanon Sinking (to the Top 3), available at https://www.worldbank.org/en/country/lebanon/publication/lebanon-economic-monitor-spring-2021-lebanon-sinking-to-the-top-3 (last visited Nov. 5, 2024).

¹² Bassem Mroue, IMF warns Lebanon that the country is still facing enormous challenges, years after a meltdown began, Reuters, Sept. 15, 2023, available at https://apnews.com/article/lebanon-imf-central-bank-sayrafa-banks-meltdown-0d56ddea8dc9510d110959f794a06ed9 (last visited Nov. 5, 2024).

Poverty in Lebanon has more than tripled over the past decade reaching 44 percent of the total population in 2022.¹³ Families in Lebanon are described as multidimensionally poor, with “rising deprivation in the areas of health care, medicines, services, education employment, housing and assets.” ¹⁴ Protective food subsidies have ended and living costs have risen dramatically, preventing families from accessing enough food and other basic needs each day.¹⁵

¹³ World Bank, Lebanon Poverty and Equity Assessment 2024: Weathering a Protracted Crisis (English). Washington, D.C: World Bank Group, May 23, 2024, available at http://documents.worldbank.org/curated/en/099052224104516741/P1766511325da10a71ab6b1ae97816dd20c (last visited Nov. 5, 2024).

¹⁴ United Nations Economic and Social Commission for Western Asia (ESCWA), Multidimensional poverty in Lebanon (2019-2021), available at https://www.unescwa.org/sites/default/files/news/docs/21-00634-_multidimentional_poverty_in_lebanon_-policy_brief_-_en.pdf (last visited Nov. 5, 2024).

¹⁵ United Nations, Around 2 million facing food insecurity across Lebanon, Jan. 19, 2023, available at https://news.un.org/en/story/2023/01/1132642 (last visited Nov. 5, 2024).

This economic crisis has caused Lebanon's Gross Domestic Product to “decrease from $54.9 billion in 2018 to $17.94 billion in 2023.” ¹⁶ Additionally, Lebanon is grappling with hyperinflation, which is eroding the purchasing power of much of the Lebanese population.¹⁷ Data from June 2023 indicates “that 59 percent of Lebanese households (and of these 86 percent of female headed households), excluding refugees, faced substantial challenges in meeting their needs, primarily driven by disrupted livelihoods.” ¹⁸

¹⁶ Flash Appeal: Lebanon, October—December 2024, OCHA, October 2024, available at https://www.unocha.org/publications/report/lebanon/flash-appeal-lebanon-october-december-2024-october-2024 (last visited Nov. 5, 2024).

¹⁷ Id.

¹⁸ Id.

Political Crisis

Since 2021, reports have implicated current and former Lebanese prime ministers in corruption cases.¹⁹ More crucially, Lebanon has not had a President since 2022, when Michel Aoun stepped down a day before his presidential term expired.²⁰ The country's affairs are run by an unelected caretaker government; ²¹ with no elected president, passage of new legislation and much needed economic reform is not occurring.²² Moreover, since the hostilities increased between Israel and Hezbollah, tensions have also increased between Hezbollah and Sunni and Maronite factions in the government, making political agreements unlikely in the near-term.²³

¹⁹ The Washington Post, Pandora Papers: Leaks prompt investigations in some countries—and denial in others, Oct. 9, 2021, available at: https://www.washingtonpost.com/world/2021/10/09/russia-ukraine-jordan-lebanon-pandora-papers/ (last visited Nov. 5, 2024).

²⁰ Lebanon's president leaves with no replacement amid political, economic crisis, PBS News Hour, Oct. 30, 2022, available at https://www.pbs.org/newshour/world/lebanons-president-leaves-with-no-replacement-amid-political-economic-crisis (last visited Nov. 5, 2024); Matt Bradley, Analysis: As was rages, some in Lebanon see opportunity in a weakened Hezbollah, NBC News, Oct. 4, 2024, available at https://www.nbcnews.com/news/world/israel-hezbollah-war-nasrallah-airstrikes-hamas-gaza-assassinations-rcna173851 (last visited Nov. 5, 2024).

²¹ Key Developments in 2023: Lebanon, Freedom House, 2023, available at https://freedomhouse.org/country/lebanon/freedom-world/2024 (last visited Nov. 5, 2024).

²² Matt Bradley, Analysis: As war rages, some in Lebanon see opportunity in a weakened Hezbollah, NBC News, Oct. 4, 2024, available at https://www.nbcnews.com/news/world/israel-hezbollah-war-nasrallah-airstrikes-hamas-gaza-assassinations-rcna173851 (last visited Nov. 5, 2024).

²³ Instability in Lebanon, Global Conflict Tracker, Center for Preventive Action, Council on Foreign Relations, Oct. 28, 2024, available at https://www.cfr.org/global-conflict-tracker/conflict/political-instability-lebanon (last visited Nov. 5, 2024).

The inability to effectively govern in Lebanon has resulted in financial insolvency, crumbling infrastructure, and the inability to provide basic services including access to electricity and fuel.²⁴ Human Rights Watch reported that, “[o]n August 17, 2024, Lebanon's only operational power plant shut down after the state-run electricity company . . . ran out of fuel, resulting in a complete nationwide power outage.” ²⁵ This outage left residents of Lebanon and key state services like “the airport, water pump stations, sewage systems, and prisons, without state-provided electricity for more than 24 hours, and reliant on costly and highly polluting private diesel generators.” ²⁶ The Lebanese state is unable to provide the vast majority of residents with more than one to three hours of electricity per day.²⁷ This lack of access to electricity has adversely impacted Lebanese residents' access to education, health, water, sanitation, and a healthy environment.²⁸

²⁴ International Organization for Migration, Lebanon Crisis Response Plan 2024, available at https://crisisresponse.iom.int/response/lebanon-crisis-response-plan-2024 (last visited Nov. 5, 2024).

²⁵ Human Rights Watch, Lebanon: Nationwide Electricity Blackout, Aug. 29, 2024, available at https://www.hrw.org/news/2024/08/29/lebanon-nationwide-electricity-blackout (last visited Nov. 5, 2024).

²⁶ Id.

²⁷ Human Rights Watch, “Cut Off From Life Itself” Lebanon's Failure on the Right to Electricity, Mar. 9, 2023, available at https://www.hrw.org/report/2023/03/09/cut-life-itself/lebanons-failure-right-electricity (last visited Nov. 5, 2024).

²⁸ Id.

Humanitarian Concerns

The economic crisis, government failings, and increasingly escalating conflict have worsened an already fragile humanitarian situation in Lebanon.²⁹ Access to sufficient food, water, sanitation, hygiene, shelter, income, essential commodities, and healthcare have decreased.³⁰ Humanitarian needs continue to increase amid the escalating hostilities in Lebanon, exacerbated by the damage to vital infrastructure and the scale of internal and external displacement from conflict-affected areas of the country.³¹ As of October 21, 2024, over 800,000 individuals were internally displaced in Lebanon.³² More than 191,000 individuals have sought shelter in over 1,000 collective shelters, the vast majority of which are operating at full capacity.³³ Furthermore, the United Nations High Commissioner for Refugees estimates that approximately 425,000 people, including Syrians and Lebanese, have crossed from Lebanon into Syria since September, while more than 16,000 Lebanese have arrived in Iraq from Lebanon.³⁴ On October 4, 2024, the U.S. committed to providing nearly $157 million in new humanitarian assistance to support populations affected by conflict in Lebanon and the region.³⁵

²⁹ United Nations Office for the Coordination of Humanitarian Affairs (OCHA), Today's top news: Israel and Occupied Palestinian Territory, Lebanon, Sudan, Oct. 7, 2024, available at https://www.unocha.org/news/todays-top-news-israel-and-occupied-palestinian-territory-lebanon-sudan (last visited Nov. 5, 2024).

³⁰ Id; World Food Programme, Lebanon, available at https://www.wfp.org/countries/lebanon (last visited Nov. 5, 2024).

³¹ Id.

³² OCHA, Lebanon Flash Update #37, Oct. 23, 2024, available at https://reliefweb.int/report/lebanon/lebanon-flash-update-37-escalation-hostilities-lebanon-21-october-2024 (last visited Nov. 5, 2024)

³³ OCHA, Lebanon Flash Update #37, Oct. 23, 2024, available at https://reliefweb.int/report/lebanon/lebanon-flash-update-37-escalation-hostilities-lebanon-21-october-2024 (last visited Nov. 5, 2024)

³⁴ The United Nations High Commissioner for Human Rights Syria Flash Update #17, Sept. 24-Oct 20, 2024, available at https://reporting.unhcr.org/syrian-arab-republic-response-displacement-lebanon-flash-update-17 (last visited Nov. 5, 2024); OCHA, Lebanon Flash Update #37, Oct. 23, 2024, available at https://reliefweb.int/report/lebanon/lebanon-flash-update-37-escalation-hostilities-lebanon-21-october-2024 (last visited Nov. 5, 2024); OCHA, Iraq Flash Update #14: Update on Displacement from Lebanon, Oct. 20, 2024, available at https://reliefweb.int/report/iraq/iraq-flash-update-14-update-displacement-lebanon-20-october-2024 (last visited Nov. 5, 2024).

³⁵ U.S. Dep't of State, United States Provides Humanitarian Assistance in Response to the Escalating Crisis in Lebanon, Oct. 4, 2024, available at https://www.state.gov/united-states-provides-humanitarian-assistance-in-response-to-the-escalating-crisis-in-lebanon/ (last visited Nov. 5, 2024).

Access to health care had been drastically reduced due to financial barriers and lack of medicine in Lebanon.³⁶ The current hostilities have aggravated the issues, with services struggling to respond to the needs of the displaced and conflict-affected,³⁷ and health care facilities have been either destroyed or closed due to the conflict.³⁸

³⁶ European Commission, Lebanon, available at https://civil-protection-humanitarian-aid.ec.europa.eu/where/middle-east-and-northern-africa/lebanon_en (last visited Nov. 5, 2024).

³⁷ Id.

³⁸ OCHA, Today's top news: Israel and Occupied Palestinian Territory, Lebanon, Sudan, Oct. 7, 2024, available at https://www.unocha.org/news/todays-top-news-israel-and-occupied-palestinian-territory-lebanon-sudan (last visited Nov. 5, 2024).

Access to food and potable water continue to be limited. As of October 2024, “at least 25 water facilities [were] damaged affecting more than 300,000 people.” ³⁹ According to the World Food Programme, 2.5 million people of the 5.3 million population need food assistance and 2.5 million, 47.5 percent, of people in Lebanon (including Lebanese nationals and refugees) are food insecure.⁴⁰

³⁹ OCHA, Today's top news: Israel and Occupied Palestinian Territory, Lebanon, Sudan, Oct. 7, 2024, available at https://www.unocha.org/news/todays-top-news-israel-and-occupied-palestinian-territory-lebanon-sudan (last visited Nov. 5, 2024).

⁴⁰ World Food Programme, Lebanon, available at https://www.wfp.org/countries/lebanon (last visited Nov. 5, 2024).

Moreover, increasing levels of internal displacement are exacerbating the challenges facing Lebanon, including those related to hosting the substantial Syrian refugee population.⁴¹ Children have also been impacted by the conflict. The start of the new school year has been postponed until November 4, 2024, as 75 percent of the country's public schools have been converted into shelters to accommodate the influx of internally displaced persons that have departed conflict-affected areas of Lebanon since the recent escalation.⁴² According to the European Commission, “[m]ore than 10 percent of the 1.2 million school-aged Lebanese children are out of school, mainly due to economic vulnerabilities.” ⁴³

⁴¹ Flash Appeal: Lebanon, October-December 2024, OCHA, October 2024, available at https://www.unocha.org/publications/report/lebanon/flash-appeal-lebanon-october-december-2024-october-2024 (last visited Nov. 5, 2024).

⁴² ReliefWeb, Statement by the Humanitarian Coordinator for Lebanon, Imran Riza, on the One-Year Mark of Escalations in Lebanon, Oct. 9, 2024, available at https://reliefweb.int/report/lebanon/statement-humanitarian-coordinator-lebanon-imran-riza-one-year-mark-escalations-lebanon-9-october-2024-enar (last visited Nov. 5, 2024).

⁴³ European Commission, Lebanon, available at https://civil-protection-humanitarian-aid.ec.europa.eu/where/middle-east-and-northern-africa/lebanon_en (last visited Nov. 5, 2024).

As of November 7, 2024, 1,760 F-1 nonimmigrant students from Lebanon are enrolled at SEVP-certified academic institutions in the United States. Given the extent of the current crisis exacerbated by recent escalating violence, conflict and displacement in Lebanon, affected students whose primary means of financial support comes from Lebanon may need to be exempt from the normal student employment requirements to continue their studies in the United States. The current crisis has made it unfeasible for many students to safely return to Lebanon for the foreseeable future. Without employment authorization, these students may lack the means to meet basic living expenses.

What is the minimum course load requirement to maintain valid F-1 nonimmigrant status under this notice?

Undergraduate F-1 nonimmigrant students who receive on-campus or off-campus employment authorization under this notice must remain registered for a minimum of six semester or quarter hours of instruction per academic term. Undergraduate F-1 nonimmigrant students enrolled in a term of different duration must register for at least one half of the credit hours normally required under a “full course of study.” See 8 CFR 214.2(f)(6)(i)(B) and (F). A graduate-level F-1 nonimmigrant student who receives on-campus or off-campus employment authorization under this notice must remain registered for a minimum of three semester or quarter hours of instruction per academic term. See 8 CFR 214.2(f)(5)(v). Nothing in this notice affects the applicability of other minimum course load requirements set by the academic institution.

In addition, an F-1 nonimmigrant student (either undergraduate or graduate) granted on-campus or off-campus employment authorization under this notice may count up to the equivalent of one class or three credits per session, term, semester, trimester, or quarter of online or distance education toward satisfying this minimum course load requirement, unless their course of study is in an English language study program. See 8 CFR 214.2(f)(6)(i)(G). An F-1 nonimmigrant student attending an approved private school in kindergarten through grade 12 or public school in grades 9 through 12 must maintain “class attendance for not less than the minimum number of hours a week prescribed by the school for normal progress toward graduation,” as required under 8 CFR 214.2(f)(6)(i)(E). Nothing in this notice affects the applicability of federal and state labor laws limiting the employment of minors.

May an eligible F-1 nonimmigrant student who already has on-campus or off-campus employment authorization benefit from the suspension of regulatory requirements under this notice?

Yes. An F-1 nonimmigrant student who is a Lebanon citizen, regardless of country of birth (or an individual having no nationality who last habitually resided in Lebanon), who already has on-campus or off-campus employment authorization and is otherwise eligible may benefit under this notice, which suspends certain regulatory requirements relating to the minimum course load requirement under 8 CFR 214.2(f)(6)(i) and certain employment eligibility requirements under 8 CFR 214.2(f)(9). Such an eligible F-1 nonimmigrant student may benefit without having to apply for a new Form I-766, Employment Authorization Document (EAD). To benefit from this notice, the F-1 nonimmigrant student must request that their designated school official (DSO) enter the following statement in the remarks field of the student's Student and Exchange Visitor Information System (SEVIS) record, which the student's Form I-20, Certificate of Eligibility for Nonimmigrant (F-1) Student Status, will reflect:

Approved for more than 20 hours per week of [DSO must insert “on-campus” or “off-campus,” depending upon the type of employment authorization the student already has] employment authorization and reduced course load under the Special Student Relief authorization from [DSO must insert the beginning date of the notice or the beginning date of the student's employment, whichever date is later] until [DSO must insert either the student's program end date, the current EAD expiration date (if the student is currently authorized for off-campus employment), or the end date of this notice, whichever date comes first].⁴⁴

⁴⁴ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 27, 2026, provided the student satisfies the minimum course load requirements in this notice.

Must the F-1 nonimmigrant student apply for reinstatement after expiration of this special employment authorization if the student reduces his or her “full course of study”?

No. DHS will deem an F-1 nonimmigrant student who receives and comports with the employment authorization permitted under this notice to be engaged in a “full course of study” ⁴⁵ for the duration of the student's employment authorization, provided that a qualifying undergraduate level F-1 nonimmigrant student remains registered for a minimum of six semester or quarter hours of instruction per academic term, and a qualifying graduate level F-1 nonimmigrant student remains registered for a minimum of three semester or quarter hours of instruction per academic term. See 8 CFR 214.2(f)(5)(v) and (f)(6)(i)(F). Undergraduate F-1 nonimmigrant students enrolled in a term of different duration must register for at least one half of the credit hours normally required under a “full course of study.” See 8 CFR 214.2(f)(6)(i)(B) and (F). DHS will not require such students to apply for reinstatement under 8 CFR 214.2(f)(16) if they are otherwise maintaining F-1 nonimmigrant status.

⁴⁵ See 8 CFR 214.2(f)(6).

Will an F-2 dependent (spouse or minor child) of an F-1 nonimmigrant student covered by this notice be eligible for employment authorization?

No. An F-2 spouse or minor child of an F-1 nonimmigrant student is not authorized to work in the United States and, therefore, may not accept employment while in F-2 nonimmigrant status, consistent with 8CFR 214.2(f)(15)(i).

Will the suspension of the applicability of the standard student employment requirements apply to an individual who receives an initial F-1 visa and makes an initial entry into the United States after the effective date of this notice in the Federal Register?

No. The suspension of the applicability of the standard regulatory requirements only applies to certain F-1 nonimmigrant students who meet the following conditions:

(1) Are a citizen of Lebanon regardless of country of birth (or an individual having no nationality who last habitually resided in Lebanon);

(2) Were lawfully present in the United States on November 27, 2024, in F-1 nonimmigrant status, under section 101(a)(15)(F)(i) of the INA, 8 U.S.C. 1101(a)(15)(F)(i);

(3) Are enrolled in an academic institution that is SEVP-certified for enrollment of F-1 nonimmigrant students;

(4) Are maintaining F-1 nonimmigrant status; and

(5) Are experiencing severe economic hardship as a direct result of the current crisis in Lebanon.

An F-1 nonimmigrant student who does not meet all these requirements is ineligible for the suspension of the applicability of the standard regulatory requirements (even if experiencing severe economic hardship as a direct result of the current crisis in Lebanon).

Does this notice apply to a continuing F-1 nonimmigrant student who departs the United States after the effective date of this notice in the Federal Register and who needs to obtain a new F-1 visa before returning to the United States to continue an educational program?

Yes. This notice applies to such an F-1 nonimmigrant student, but only if the DSO has properly notated the student's SEVIS record, which will then appear on the student's Form I-20. The normal rules for visa issuance remain applicable to a nonimmigrant who needs to apply for a new F-1 visa to continue an educational program in the United States.

Does this notice apply to elementary school, middle school, and high school students in F-1 status?

Yes. However, this notice does not by itself reduce the required course load for F-1 nonimmigrant students from Lebanon enrolled in kindergarten through grade 12 at a private school, or grades 9 through 12 at a public high school. Such students must maintain the minimum number of hours of class attendance per week prescribed by the academic institution for normal progress toward graduation, as required under 8CFR214.2(f)(6)(i)(E). The suspension of certain regulatory requirements related to employment through this notice is applicable to all eligible F-1 nonimmigrant students regardless of educational level. Eligible F-1 nonimmigrant students from Lebanon enrolled in an elementary school, middle school, or high school may benefit from the suspension of the requirement in 8 CFR 214.2(f)(9)(i) that limits on-campus employment to 20 hours per week while school is in session.

On-Campus Employment Authorization

Will an F-1 nonimmigrant student who receives on-campus employment authorization under this notice be authorized to work more than 20 hours per week while school is in session?

Yes. For an F-1 nonimmigrant student covered in this notice, the Secretary is suspending the applicability of the requirement in 8 CFR 214.2(f)(9)(i) that limits an F-1 nonimmigrant student's on-campus employment to 20 hours per week while school is in session. An eligible F-1 nonimmigrant student has authorization to work more than 20 hours per week while school is in session if the DSO has entered the following statement in the remarks field of the student's SEVIS record, which will be reflected on the student's Form I-20:

Approved for more than 20 hours per week of on-campus employment and reduced course load, under the Special Student Relief authorization from [DSO must insert the beginning date of this notice or the beginning date of the student's employment, whichever date is later] until [DSO must insert the student's program end date or the end date of this notice, whichever date comes first].⁴⁶

⁴⁶ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 27, 2026, provided the student satisfies the minimum course load requirements in this notice.

To obtain on-campus employment authorization, the F-1 nonimmigrant student must demonstrate to the DSO that the employment is necessary to avoid severe economic hardship directly resulting from the current crisis in Lebanon. An F-1 nonimmigrant student authorized by the DSO to engage in on-campus employment by means of this notice does not need to file any applications with U.S. Citizenship and Immigration Services (USCIS). The standard rules permitting full-time on-campus employment when school is not in session or during school vacations apply, as described in 8 CFR 214.2(f)(9)(i).

Will an F-1 nonimmigrant student who receives on-campus employment authorization under this notice have authorization to reduce the normal course load and still maintain his or her F-1 nonimmigrant student status?

Yes. DHS will deem an F-1 nonimmigrant student who receives on-campus employment authorization under this notice to be engaged in a “full course of study” ⁴⁷ for the purpose of maintaining their F-1 nonimmigrant student status for the duration of the on-campus employment, if the student satisfies the minimum course load requirement described in this notice, consistent with 8 CFR 214.2(f)(6)(i)(F). However, the authorization to reduce the normal course load is solely for DHS purposes of determining valid F-1 nonimmigrant student status. Nothing in this notice mandates that school officials allow an F-1 nonimmigrant student to take a reduced course load if the reduction would not meet the academic institution's minimum course load requirement for continued enrollment.⁴⁸

⁴⁷ See 8 CFR 214.2(f)(6).

⁴⁸ Minimum course load requirement for enrollment in a school must be established in a publicly available document (e.g., catalog, website, or operating procedure), and it must be a standard applicable to all students (U.S. citizens and foreign students) enrolled at the school.

Off-Campus Employment Authorization

What regulatory requirements does this notice temporarily suspend relating to off-campus employment?

For an F-1 nonimmigrant student covered by this notice, as provided under 8 CFR 214.2(f)(9)(ii)(A), the Secretary is suspending the following regulatory requirements relating to off-campus employment:

(a) The requirement that a student must have been in F-1 nonimmigrant student status for one full academic year to be eligible for off-campus employment;

(b) The requirement that an F-1 nonimmigrant student must demonstrate that acceptance of employment will not interfere with the student's carrying a full course of study;

(c) The requirement that limits an F-1 nonimmigrant student's employment authorization to no more than 20 hours per week of off-campus employment while the school is in session; and

(d) The requirement that the student demonstrate that employment under 8 CFR 214.2(f)(9)(i) is unavailable or otherwise insufficient to meet the needs that have arisen as a result of the unforeseen circumstances.

Will an F-1 nonimmigrant student who receives off-campus employment authorization under this notice have authorization to reduce the normal course load and still maintain F-1 nonimmigrant status?

Yes. DHS will deem an F-1 nonimmigrant student who receives off-campus employment authorization by means of this notice to be engaged in a “full course of study” ⁴⁹ for the purpose of maintaining F-1 nonimmigrant student status for the duration of the student's employment authorization if the student satisfies the minimum course load requirement described in this notice, consistent with 8 CFR 214.2(f)(6)(i)(F). The authorization for a reduced course load is solely for DHS purposes of determining valid F-1 nonimmigrant student status. Nothing in this notice mandates that school officials allow an F-1 nonimmigrant student to take a reduced course load if such reduced course load would not meet the school's minimum course load requirement.⁵⁰

⁴⁹ See 8 CFR 214.2(f)(6).

⁵⁰ Minimum course load requirement for enrollment in a school must be established in a publicly available document (e.g., catalog, website, or operating procedure), and it must be a standard applicable to all students (U.S. citizens and foreign students) enrolled at the school.

How may an eligible F-1 nonimmigrant student obtain employment authorization for off-campus employment with a reduced course load under this notice?

An F-1 nonimmigrant student must file a Form I-765, Application for Employment Authorization, with USCIS to apply for off-campus employment authorization based on severe economic hardship directly resulting from the current crisis in Lebanon.⁵¹ Filing instructions are located at https://www.uscis.gov/i-765.

⁵¹ See 8 CFR 274a.12(c)(3)(iii).

Fee considerations. Submission of a Form I-765 currently requires payment of a $520 fee. An applicant who is unable to pay the fee may submit a completed Form I-912, Request for Fee Waiver, along with the Form I-765, Application for Employment Authorization. See https://www.uscis.gov/i-912. The submission must include an explanation about why USCIS should grant the fee waiver and the reason(s) for the inability to pay, and any evidence to support the reason(s). See 8 CFR 106.2 and 106.3.

Supporting documentation. An F-1 nonimmigrant student seeking off-campus employment authorization due to severe economic hardship must demonstrate the following to their DSO:

(1) This employment is necessary to avoid severe economic hardship; and

(2) The hardship is a direct result of the current crisis in Lebanon.

If the DSO agrees that the F-1 nonimmigrant student is entitled to receive such employment authorization, the DSO must recommend application approval to USCIS by entering the following statement in the remarks field of the student's SEVIS record, which will then appear on that student's Form I-20:

Recommended for off-campus employment authorization in excess of 20 hours per week and reduced course load under the Special Student Relief authorization from the date of the USCIS authorization noted on Form I-766 until [DSO must insert the program end date or the end date of this notice, whichever date comes first].⁵²

⁵² Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 27, 2026, provided the student satisfies the minimum course load requirements in this notice.

The F-1 nonimmigrant student must then file the properly endorsed Form I-20 and Form I-765 according to the instructions for the Form I-765. The F-1 nonimmigrant student may begin working off campus only upon receipt of the EAD from USCIS.

DSO recommendation. In making a recommendation that an F-1 nonimmigrant student be approved for Special Student Relief, the DSO certifies that:

(a) The F-1 nonimmigrant student is in good academic standing and is carrying a “full course of study” ⁵³ at the time of the request for employment authorization;

⁵³ See 8 CFR 214.2(f)(6).

(b) The F-1 nonimmigrant student is a citizen of Lebanon, regardless of country of birth (or an individual having no nationality who last habitually resided in Lebanon), and is experiencing severe economic hardship as a direct result of the current crisis in Lebanon, as documented on the Form I-20;

(c) The F-1 nonimmigrant student has confirmed that the student will comply with the reduced course load requirements of this notice and register for the duration of the authorized employment for a minimum of six semester or quarter hours of instruction per academic term if at the undergraduate level, or for a minimum of three semester or quarter hours of instruction per academic term if the student is at the graduate level; ⁵⁴ and

⁵⁴ 8 CFR 214.2(f)(5)(v).

(d) The off-campus employment is necessary to alleviate severe economic hardship to the individual as a direct result of the current crisis in Lebanon.

Processing. To facilitate prompt adjudication of the student's application for off-campus employment authorization under 8 CFR 214.2(f)(9)(ii)(C), the F-1 nonimmigrant student should do both of the following:

(a) Ensure that the application package includes the following documents:

(1) A completed Form I-765 with all applicable supporting evidence;

(2) The required fee or properly documented fee waiver request as defined in 8 CFR 106.2 and 106.3; and

(3) A signed and dated copy of the student's Form I-20 with the appropriate DSO recommendation, as previously described in this notice; and

(b) Send the application in an envelope which is clearly marked on the front of the envelope, bottom right-hand side, with the phrase “SPECIAL STUDENT RELIEF.” ⁵⁵ Failure to include this notation may result in significant processing delays.

⁵⁵ Students who wish to apply for a Special Student Relief-related EAD under this notice should use the mailing address specifically designated for (C)(3)(iii) filings. The direct filing address is available at https://www.uscis.gov/i-765-addresses (last visited Sept. 12, 2024).

If USCIS approves the student's Form I-765, USCIS will send the student a Form I-766 EAD as evidence of employment authorization. The EAD will contain an expiration date that does not exceed the end of the granted temporary relief.

Temporary Protected Status (TPS) Considerations

Can an F-1 nonimmigrant student apply for TPS and for benefits under this notice at the same time?

Yes. An F-1 nonimmigrant student who has not yet applied for TPS or for other relief that reduces the student's course load per term and permits an increased number of work hours per week, such as Special Student Relief,⁵⁶ under this notice has two options.

⁵⁶ See DHS Study in the States, Special Student Relief, available at https://studyinthestates.dhs.gov/students/special-student-relief (last visited Feb. 28, 2024).

Under the first option, the F-1 nonimmigrant student may apply for TPS according to the instructions in the USCIS notice designating Lebanon for TPS elsewhere in this issue of the Federal Register. All TPS applicants must file a Form I-821, Application for Temporary Protected Status, with the appropriate fee (or request a fee waiver). Although not required to do so, if F-1 nonimmigrant students want to obtain a new TPS-related EAD that is valid through May 27, 2026, and to be eligible for automatic EAD extensions that may be available to certain EADs with an A-12 or C-19 category code, they must file Form I-765 and pay the Form I-765 fee (or request a fee waiver). After receiving the TPS-related EAD, an F-1 nonimmigrant student may request that their DSO make the required entry in SEVIS and issue an updated Form I-20, which notates that the nonimmigrant student has been authorized to carry a reduced course load, as described in this notice. As long as the F-1 nonimmigrant student maintains the minimum course load described in this notice, does not otherwise violate their nonimmigrant status, including as provided under 8 CFR 214.1(g), and maintains TPS, then the student maintains F-1 status and TPS concurrently.

Under the second option, the F-1 nonimmigrant student may apply for an EAD under Special Student Relief by filing Form I-765 with the location specified in the filing instructions. At the same time, the F-1 nonimmigrant student may file a separate TPS application but must submit the Form I-821 according to the instructions provided in the Federal Register notice designating Lebanon for TPS. If the F-1 nonimmigrant student has already applied for employment authorization under Special Student Relief, they are not required to submit the Form I-765 as part of the TPS application. However, some nonimmigrant students may wish to obtain a TPS-related EAD in light of certain extensions that may be available to EADs with an A-12 or C-19 category code that are not available to the C-3 category under which Special Student Relief falls. The F-1 nonimmigrant student should check the appropriate box when filling out Form I-821 to indicate whether a TPS-related EAD is being requested. Again, as long as the F-1 nonimmigrant student maintains the minimum course load described in this notice and does not otherwise violate the student's nonimmigrant status, included as provided under 8 CFR 214.1(g), the nonimmigrant will be able to maintain compliance requirements for F-1 nonimmigrant student status while having TPS.

When a student applies simultaneously for TPS and benefits under this notice, what is the minimum course load requirement while an application for employment authorization is pending?

The F-1 nonimmigrant student must maintain normal course load requirements for a “full course of study” ⁵⁷ unless or until the nonimmigrant student receives employment authorization under this notice. TPS-related employment authorization, by itself, does not authorize a nonimmigrant student to drop below twelve credit hours, or otherwise applicable minimum requirements (e.g., clock hours for non-traditional academic programs). Once approved for a TPS-related EAD and Special Student Relief employment authorization, as indicated by the DSO's required entry in SEVIS and issuance of an updated Form I-20, the F-1 nonimmigrant student may drop below twelve credit hours, or otherwise applicable minimum requirements (with a minimum of six semester or quarter hours of instruction per academic term if at the undergraduate level, or for a minimum of three semester or quarter hours of instruction per academic term if at the graduate level). See 8 CFR 214.2(f)(5)(v), (f)(6), and (f)(9)(i) and (ii).

⁵⁷ See 8 CFR 214.2(f)(6).

How does a student who has received a TPS-related EAD then apply for authorization to take a reduced course load under this notice?

There is no further application process with USCIS if a student has been approved for a TPS-related EAD. The F-1 nonimmigrant student must demonstrate and provide documentation to the DSO of the direct economic hardship resulting from the current crisis in Lebanon. The DSO will then verify and update the student's record in SEVIS to enable the F-1 nonimmigrant student with TPS to reduce the course load without any further action or application. No other EAD needs to be issued for the F-1 nonimmigrant student to have employment authorization.

Can a noncitizen who has been granted TPS apply for reinstatement of F-1 nonimmigrant student status after the noncitizen's F-1 nonimmigrant student status has lapsed?

Yes. Regulations permit certain students who fall out of F-1 nonimmigrant student status to apply for reinstatement. See 8 CFR 214.2(f)(16). This provision may apply to students who worked on a TPS-related EAD or dropped their course load before publication of this notice, and therefore fell out of student status. These students must satisfy the criteria set forth in the F-1 nonimmigrant student status reinstatement regulations.

Deferred Enforced Departure (DED) Considerations

Can an F-1 nonimmigrant student apply for a DED-related EAD and for benefits under this notice at the same time?

Yes. Although they are not required to apply for a DED-related EAD, an F-1 nonimmigrant student who meets the eligibility requirements under the applicable DED notice and wants to obtain such an EAD must file Form I-765 and pay the related fee (or request a fee waiver). The eligible F-1 student may also apply for Special Student Relief under this notice by requesting that the DSO notate on their Form I-20 in SEVIS that the student has been authorized to carry a reduced course load and is permitted to work an increased number of hours under Special Student Relief while school is in session. The DSO should also notate on the Form I-20 that the student is working pursuant to a DED-related EAD. As long as the F-1 nonimmigrant student maintains the minimum course load described in this notice, does not otherwise violate the student's nonimmigrant status, including as provided under 8 CFR 214.1(g), and remains covered under DED, then the student maintains F-1 nonimmigrant status and DED concurrently.

When a student applies simultaneously for a DED-related EAD and benefits under this notice, what is the minimum course load requirement while an application for employment authorization is pending?

The F-1 nonimmigrant student must maintain normal course load requirements for a “full course of study” ⁵⁸ unless or until the F-1 nonimmigrant student is granted employment authorization under this notice. DED-related employment authorization, by itself, does not authorize a nonimmigrant student to drop below twelve credit hours, or otherwise applicable minimum requirements (e.g., clock hours for non-traditional academic programs). Once approved for a DED-related EAD and Special Student Relief employment authorization, as indicated by the DSO's required entry in SEVIS and issuance of an updated Form I-20, the F-1 nonimmigrant student may drop below twelve credit hours, or otherwise applicable minimum requirements (with a minimum of six semester or quarter hours of instruction per academic term if the student is at the undergraduate level, or a minimum of three semester or quarter hours of instruction per academic term if the student is at the graduate level). See 8 CFR 214.2(f)(5)(v), 214.2(f)(6), 214.2(f)(9)(i) and (ii).

⁵⁸ See 8 CFR 214.2(f)(6).

How does an F-1 student who has received a DED-related EAD then apply for authorization to take a reduced course load under this notice?

There is no further application process with USCIS if a student has been approved for a DED-related EAD. However, the F-1 nonimmigrant student must demonstrate and provide documentation to the DSO of severe economic hardship as a direct result of the current humanitarian crisis in Lebanon. The DSO will then verify and update the student's SEVIS record to enable the F-1 nonimmigrant student with DED to reduce their course load without any further action or application. No other EAD needs to be issued for the F-1 nonimmigrant student to have employment authorization.

Can a noncitizen who has been granted a DED-related EAD apply for reinstatement to F-1 nonimmigrant student status after the noncitizen's F-1 nonimmigrant student status has lapsed?

Yes. Current regulations permit certain students who fall out of F-1 nonimmigrant student status to apply for reinstatement. See 8 CFR 214.2(f)(16). This provision might apply to students who worked on a DED-related EAD or dropped their course load before July 26, 2024, and therefore fell out of F-1 nonimmigrant status. The student must satisfy the criteria set forth in the F-1 nonimmigrant student status reinstatement regulations.

How long will this notice remain in effect?

This notice grants temporary relief until May 27, 2026,⁵⁹ to eligible F-1 nonimmigrant students. DHS will continue to monitor the situation in Lebanon. Should the special provisions authorized by this notice need modification or extension, DHS will announce such changes in the Federal Register.

⁵⁹ Because the suspension of requirements under this notice applies throughout an academic term during which the suspension is in effect, DHS considers an F-1 nonimmigrant student who engages in a reduced course load or employment (or both) after this notice is effective to be engaging in a “full course of study,” see 8 CFR 214.2(f)(6), and eligible for employment authorization, through the end of any academic term for which such student is matriculated as of May 27, 2026, provided the student satisfies the minimum course load requirements in this notice.

Paperwork Reduction Act (PRA)

An F-1 nonimmigrant student seeking off-campus employment authorization due to severe economic hardship resulting from the current crisis in Lebanon must demonstrate to the DSO that this employment is necessary to avoid severe economic hardship. A DSO who agrees that a nonimmigrant student should receive such employment authorization must recommend an application approval to USCIS by entering information in the remarks field of the student's SEVIS record. The authority to collect this information is in the SEVIS collection of information currently approved by the Office of Management and Budget (OMB) under OMB Control Number 1653-0038.

This notice also allows an eligible F-1 nonimmigrant student to request employment authorization, work an increased number of hours while the academic institution is in session, and reduce their course load while continuing to maintain F-1 nonimmigrant student status.

To apply for employment authorization, certain F-1 nonimmigrant students must complete and submit a currently approved Form I-765 according to the instructions on the form. OMB has previously approved the collection of information contained on the current Form I-765, consistent with the PRA (OMB Control Number 1615-0040). Although there will be a slight increase in the number of Form I-765 filings because of this notice, the number of filings currently contained in the OMB annual inventory for Form I-765 is sufficient to cover the additional filings. Accordingly, there is no further action required under the PRA.

Alejandro Mayorkas,
Secretary, U.S. Department of Homeland Security.

[FR Doc. 2024-27787 Filed 11-26-24; 8:45 am]

BILLING CODE 9111-CB-P